DEPARTMENT OF THE TREASURY

Office of Foreign Assets Control

Sanctions Actions Pursuant to Executive Order 13581

AGENCY: Office of Foreign Assets Control, Treasury.

ACTION: Notice.

SUMMARY: The U.S. Department of the Treasury's Office of Foreign Assets Control (OFAC) is publishing the names of persons whose property and interests in property have been unblocked pursuant to Executive Order 13581 of July 24, 2011, “Blocking Property of Transnational Criminal Organizations.”

DATES: OFAC's actions described in this notice took place on February 16, 2017.

FOR FURTHER INFORMATION CONTACT: The Department of the Treasury's Office of Foreign Assets Control: Assistant Director for Licensing, tel.: 202-622-2480, Assistant Director for Regulatory Affairs, tel.: 202-622-4855, Assistant Director for Sanctions Compliance & Evaluation, tel.: 202-622-2490; or the Department of the Treasury's Office of the Chief Counsel (Foreign Assets Control), Office of the General Counsel, tel.: 202-622-2410.

SUPPLEMENTARY INFORMATION:

Electronic Availability

The list of Specially Designated Nationals and Blocked Persons (SDN List) and additional information concerning OFAC sanctions programs are available from OFAC's Web site at http://www.treasury.gov/ofac.

Notice of OFAC Actions

On February 16, 2017, OFAC removed from the SDN List the persons listed below, whose property and interests in property were blocked pursuant to Executive Order 13581.

Individuals

1. SNYMAN, Estelle, Shannon Airport House, Shannon, County Clare, Ireland; DOB 01 Nov 1964 to 30 Nov 1964 (individual) [TCO] (Linked To: PACNET HOLDINGS LIMITED; Linked To: PACNET GROUP).

2. WEEKES, Brian, Attyterilla, Ballygriffey Road, Ruan, County Clare, Ireland; DOB 18 Feb 1963 (individual) [TCO] (Linked To: PACNET EUROPE; Linked To: PACNET GROUP).

Dated: February 16, 2017.
Andrea Gacki,
Acting Director, Office of Foreign Assets Control.

[FR Doc. 2017-19634 Filed 9-15-17; 8:45 am]

BILLING CODE 4810-AL-P